Title 3—

The President

Presidential Determination No. 2002-09 of March 12, 2002

Eligibility of Palau, Kiribati, and Tuvalu to Receive Defense Articles and Services Under the Foreign Assistance Act and the Arms Export Control Act

Memorandum for the Secretary of State

Pursuant to the authority vested in me by section 503(a) of the Foreign Assistance Act of 1961, as amended, and section 3(a)(1) of the Arms Export Control Act, I hereby find that the furnishing of defense articles and services to the Governments of Palau, Kiribati, and Tuvalu will strengthen the security of the United States and promote world peace.

You are authorized and directed to report this finding to the Congress and to publish this memorandum in the Federal Register.

B

THE WHITE HOUSE,

Washington, March 12, 2002.

[FR Doc. 02-07103

Filed 03-21-02; 8:45 am]

Billing code 4710-10-M